DEPARTMENT OF ENERGY

International Energy Agency Meetings

AGENCY: Department of Energy.

ACTION: Notice of Meetings.

SUMMARY: The Industry Advisory Board (IAB) to the International Energy Agency (IEA) will meet on June 24 and June 25, 2014, at the headquarters of the IEA in Paris, France in connection with a meeting of the IEA's Standing Group on Emergency Questions (SEQ) on the same days, and on June 26, 2014, in connection with a joint meeting of the SEQ and the IEA's Standing Group on the Oil Market (SOM) on that day.

DATES: June 24-26, 2014

ADDRESS: 9, rue de la Fédération, Paris, France

FOR FURTHER INFORMATION CONTACT: Diana D. Clark, Assistant General Counsel for International and National Security Programs, Department of Energy, 1000 Independence Avenue SW., Washington, DC 20585, 202-586-3417.

SUPPLEMENTARY INFORMATION: In accordance with section 252(c)(1)(A)(i) of the Energy Policy and Conservation Act (42 U.S.C. 6272(c)(1)(A)(i)) (EPCA), the following notice of meetings is provided:

Meetings of the Industry Advisory Board (IAB) to the International Energy Agency (IEA) will be held at the headquarters of the IEA, 9, rue de la Fédération, Paris, France, on June 24, 2014, commencing at 9:30 a.m. and continuing at 9:30 a.m. on June 25, 2014, and on June 26, 2014, commencing at 9:30 a.m. The purpose of this notice is to permit attendance by representatives of U.S. company members of the IAB at a meeting of the IEA's Standing Group on Emergency Questions (SEQ) on June 24-25 at the same location commencing at 9:30 a.m. on both days, and at a joint meeting of the SEQ and the IEA's Standing Group on the Oil Markets (SOM) on June 26 at the same location commencing at 9:30 a.m.. The IAB will also hold a preparatory meeting among company representatives at the same location at 8:30 a.m. on June 25. The agenda for this preparatory meeting is to review the agenda for the SEQ meeting. IAB representatives are also invited to participate in a meetng of the Emergency Response Exercise design group at 5:30 p.m. on June 25.

The agenda of the SEQ meetings on June 24 and June 25 is under the control of the SEQ. It is expected that the SEQ will adopt the following agenda:

1. Adoption of the Agenda

2. Approval of the Summary Record of the 141st Meeting

3. Status of Compliance With IEP Stockholding Commitments

4. Emergency Response Review Program

5. Emergency Response Review of Belgium

6. Mid-Term Emergency Response Review of France

7. Emergency Response Exercise 7 Update

8. Outreach

—Update on Association

—Colombia

—China

9. Program of Work

10. Emergency Response Exercise 7 Delegates-only Exercise

—Welcome

—Scenario 1 (Oil)—Introduction

—Breakout Groups

—Plenary for Scenario 1

—Scenario 2 (Gas)—Introduction and Plenary Discussion

11. Energy Supply Security Publication

12. Saving Oil in a Hurry

13. Indonesian Emergency Response Assessment

14. Mid-Term Emergency Response Review of Switzerland

15. Asia Pacific Energy Research Center (APERC)

16. Emergency Response Review of Ireland

17. Mid-Term Emergency Response Assessment of Chile

18. Industry Advisory Board Update

19. Oral Reports by Administrations

20. G7 and G20 Energy Meetings

21. Other Business

—Tentative schedule of next meetings

—October 21-23, 2014

—November 2014 (ERE7)

The agenda of the joint meeting of the SEQ and the SOM on June 26 is under the control of the SEQ and the SOM. It is expected that the SEQ and the SOM will adopt the following agenda:

1. Adoption of the Agenda

2. Approval of the Summary Record of the March 20, 2014, Joint Session

3. Reports on Recent Oil Market and Policy Developments in IEA Countries

4. Update on OIM Projects and Priorities

5. The Current Oil Market Situation

6. The Ukraine-Russia Standoff and the Natural Gas Market

7. Renewable Market Update

8. The Changing Supply Environment of Escalating Production Costs

9. Mid-Term Oil Market Report Insights

10. Key Messages From the Medium-Term Gas Market Report

11. Other Business

—Tentative schedule of upcoming SEQ and SOM meetings:

—October 21-23, 2014

As provided in section 252(c)(1)(A)(ii) of the Energy Policy and Conservation Act (42 U.S.C. 6272(c)(1)(A)(ii)), the meetings of the IAB are open to representatives of members of the IAB and their counsel; representatives of members of the IEA's Standing Group on Emergency Questions and the IEA's Standing Group on the Oil Markets; representatives of the Departments of Energy, Justice, and State, the Federal Trade Commission, the General Accounting Office, Committees of Congress, the IEA, and the European Commission; and invitees of the IAB, the SEQ, the SOM, or the IEA.

Issued in Washington, DC, June 11, 2014.
Diana D. Clark,
Assistant General Counsel, for International and National Security Programs.

[FR Doc. 2014-14126 Filed 6-16-14; 8:45 am]

BILLING CODE 6450-01-P